DEPARTMENT OF AGRICULTURE

Food and Nutrition Service

Agency Information Collection Activities: Proposed Collection; Comment Request—Fresh Fruit and Vegetable Program

AGENCY: Food and Nutrition Service, Agriculture.

ACTION: Notice.

SUMMARY: In accordance with the Paperwork Reduction Act of 1995, this notice announces the Food and Nutrition Service's (Agency) intention to request Office of Management and Budget's approval of a new information collection for States and schools that participate in the Fresh Fruit and Vegetable Program. The Agency will collect reports from the states during fiscal years 2005 through 2008.

DATES: Written comments on this notice must be received by July 1, 2005 to be assured of consideration.

ADDRESSES: Comments may be sent to Robert Eadie, Chief, Policy and Program Development Branch, Child Nutrition Division, Food and Nutrition Service, U.S. Department of Agriculture, 3101 Park Center Drive, Room 640, Alexandria, VA 22302. Comments will also be accepted via E-Mail submission if sent to CNDPROPOSAL@FNS.USDA.GOV. If commenting by E-mail, please include “Proposed collection, FFVP” in the subject line.

Comments are invited on : (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate, automated, electronic, mechanical, or other technological collection techniques or other forms of information technology.

All responses to this notice will be summarized and included in the request for Office of Management and Budget approval of the information collection. All comments will also become a matter of public record.

FOR FURTHER INFORMATION CONTACT: Mr. Robert Eadie, 703-305-2590.

SUPPLEMENTARY INFORMATION: Title: Fresh Fruit and Vegetable Program.

OMB Number: To be assigned.

Type of Request: New collection of information.

Abstract: Section 120 of the Child Nutrition and WIC Reauthorization Act of 2004 (the Act) amended Section 18 of the Richard B. Russell National School Lunch Act, 42 U.S.C. 1769(g), to authorize the Fresh Fruit and Vegetable pilot as a permanent program effective July 1, 2004. The Act appropriated $9 million per fiscal year beginning October 1, 2004.

The purpose of the Program is to encourage increased consumption of fresh fruits and fresh vegetables in schools. Schools will submit performance reports to the state on a monthly basis to substantiate their claim for reimbursement. States will submit the performance reports to the Agency on a quarterly basis. States will report their produce purchases and administrative costs.

Respondents: Respondents include: (a) State agencies and (b) schools.

Estimated Number of Respondents: (a) Eleven State agencies and (b) 225 schools.

Estimated Number of Responses per Respondent: Each school will submit monthly reports to the state for a total of 12 responses per year; and states will submit quarterly reports to FNS for a total of 4 responses per year.

Estimate Time Per Response: The reporting burden is estimated to range from 15 minutes for State agencies to 30 minutes for schools. The recordkeeping burden is estimated to be 15 minutes for both State agencies and schools.

Estimated Total Annual Burden Hours: The reporting burden hours are: (a) State government staff (11 State agencies × 4 times/year × 15 minutes) = 11 hours; and (b) schools (225 schools × 12 times/year × 30 minutes) = 1350 hours. The recordkeeping burden hours are: (a) State government staff (11 State agencies × 4 times/year × 15 minutes) = 11 hours; and (b) schools (225 schools × 12 times/year × 15 minutes) = 675 hours.

Dated: April 22, 2005.
Roberto Salazar,
Administrator, Food and Nutrition Service.

[FR Doc. 05-8665 Filed 4-29-05; 8:45 am]

BILLING CODE 3410-30-P